DEPARTMENT OF ENERGY

Federal Energy Regulatory Commission

Notice of Intent To File Application for Subsequent License

April 11, 2005.

Take notice that the following notice of intent has been filed with the Commission and is available for public inspection:

a. Type of filing: Notice of Intent To File Application for a Subsequent License.

b. Project No: 733-000.

c. Date filed: April 4, 2005.

d. Submitted by: Eric R. Jacobson.

e. Name of Project: Ouray Project.

f. Location: The project is located on the Uncompahgre River in Ouray County, Colorado. The project occupies 4.38 acres of U.S. Forest Service lands.

g. Filed Pursuant to: 18 CFR 16.6.

h. Effective date of current license: January 1, 1980.

i. Expiration date of current license: April 12, 2010.

j. Project Description: The project consists of the following existing facilities: (1) A 1.06-acre reservoir; (2) a 70-foot-long masonry, gravity dam with a maximum height of 72 feet, a 51-foot-long non-overflow section and a 19-foot-wide spillway; (3) a 6,130-foot-long pipeline; (4) a powerhouse containing three generating units with a total authorized capacity of 632 kilowatts; and (5) appurtenant facilities.

k. Pursuant to 18 CFR 16.7, information on the project is available from Eric R. Jacobson, Ouray Hydro Plant, 303 Oak Street, Ouray, CO 81427; (970) 729-0034.

l. FERC Contact: Steve Hocking at 888 First Street NE., Washington, DC 20426; (202) 502-8753 or steve.hocking@ferc.gov.

m. The licensee states its unequivocal intent to submit an application for a subsequent license for Project No. 733. Pursuant to 18 CFR 16.8, 16.9, and 16.10, each application for a license and any competing license applications must be filed with the Commission at least 24 months prior to the expiration of the existing license. All applications for license for this project must be filed by April 12, 2008.

n. A copy of this filing is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or TTY (202) 502-8659. A copy is also available for inspection and reproduction at the address in item k above.

o. Register online at http://www.ferc.gov/docs-filing/esubscription.asp to be notified via e-mail of new filings and issuances related to this or other pending projects. For assistance, contact FERC Online Support as shown in the paragraph above.

p. By this notice, the Commission is seeking corrections and updates to the attached mailing list for the Ouray Project. Updates should be filed with Magalie R. Salas, Secretary, Federal Energy Regulatory Commission, 888 First Street, NE., Washington, DC 20426.

Magalie R. Salas,
Secretary.

[FR Doc. E5-1824 Filed 4-18-05; 8:45 am]

BILLING CODE 6717-01-P